DEPARTMENT OF THE TREASURY

Proposed Collection; Comment Request

AGENCY: Departmental Offices, Treasury.

ACTION: Notice and request for comments.

SUMMARY: The Department of the Treasury, as part of its continuing effort to reduce paperwork and respondent burden, invites the general public and other Federal agencies to comment on this continuing information collection, as required by the Paperwork Reduction Act of 1995, Public Law 104-13 (44 U.S.C. 3506(c)(2)(A)).

DATES: Written comments should be received on or before December 12, 2016 to be assured of consideration.

ADDRESSES: Send comments regarding the burden estimate, or any other aspect of the information collection, including suggestions for reducing the burden, to the Department of the Treasury, Office of Financial Stability, ATTN: Linda Snoddy, 1500 Pennsylvania Avenue NW., Washington, DC 20020 or to Linda.Snoddy@treasury.gov.

FOR FURTHER INFORMATION CONTACT: Requests for additional information should be directed to the Department of the Treasury, Office of Financial Stability, ATTN: Linda Snoddy, 1500 Pennsylvania Avenue NW., Washington, DC 20020; (202) 622-0148; or Linda.Snoddy@treasury.gov.

SUPPLEMENTARY INFORMATION:

OMB Control Number: 1505-0223.

Title: Troubled Asset Relief Program—Community Development Capital Initiative (CDCI).

Abstract: The Department of the Treasury (Treasury) established the TARP Community Development Capital Initiative (CDCI) in 2010 to purchase qualifying assets from U.S. banking organizations that are certified Community Development Financial Institutions (CDFIs). Banks, savings associations, bank holding companies, savings and loan holding companies and credit unions were eligible to participate. Funding to successful CDCI applicants was completed in September 2010. For a limited period of time, Treasury is offering interested CDCI participants the opportunity to exit the CDCI program by repurchasing the CDCI securities held by Treasury at fair value. The information collection provides instructions and an application for CDCI institutions that would like to apply to exit the CDCI program using this process.

Type of Review: Extension of a currently approved collection.

Affected Public: Businesses or other for-profits: CDCI institutions.

Estimated Number of Annual Respondents: 55.

Estimated Hours per Response: 24 hrs. initially; 10 hrs. for resubmission.

Estimated Total Annual Burden Hours: 1,570.

Request for Comments: Comments submitted in response to this notice will be summarized and included in the request for Office of Management and Budget approval. Comments may become a matter of public record. The public is invited to submit comments concerning: (a) Whether the collection of information is necessary for the proper performance of the functions of the agency, including whether the information will have practical utility; (b) the accuracy of the agency's estimate of the burden of the collection of information; (c) ways to enhance the quality, utility, and clarity of the information to be collected; (d) ways to minimize the burden of the collection of information on respondents, including the use of automated collection techniques or other forms of information technology; and (e) estimates of capital or start-up costs and costs of operation, maintenance, and purchase of services to provide information.

Dated: October 6, 2016.
Brenda Simms,
Treasury PRA Clearance Officer.

[FR Doc. 2016-24655 Filed 10-11-16; 8:45 am]

BILLING CODE 4810-25-P